FEDERAL COMMUNICATIONS COMMISSION

47 CFR Part 73

[DA 21-1587; MB Docket No. 21-483; RM-11913]

Radio Broadcasting Services; Hamilton, Goldthwaite, and San Saba, Texas

AGENCY: Federal Communications Commission.

ACTION: Proposed rule.

SUMMARY: This Notice of Proposed Rulemaking and Order to Show Cause seeks comment on a proposal requested by B Plus Broadcasting, LLC (B Plus), to create a new FM allotment for a Class A station on Channel 263 at Hamilton, Texas. It also orders S Content Marketing, LLC (S Content), to show why the license of KNUZ(FM), San Saba, Texas, should not be modified to specify operation on Channel 291A in lieu of Channel 224A at San Saba, Texas.

DATES: Comments must be filed on or before February 7, 2022, and reply comments on or before February 22, 2022.

ADDRESSES: Secretary, Federal Communications Commission, 45 L Street NE, Washington, DC 20554. In addition to filing comments with the FCC, interested parties should serve the following: Alan E. Brown, P.O. Box 2, Goldthwaite, TX 79844 (petitioner); and Allan G. Moskowitz, Esq., 10845 Tuckahoe Way, North Potomac, MD 20878 (counsel to the petitioner).

FOR FURTHER INFORMATION CONTACT: Nazifa Sawez, Media Bureau, (202) 418-2700.

SUPPLEMENTARY INFORMATION: This is a synopsis of the Commission's Notice of Proposed Rule Making and Order to Show Cause, MB Docket No. 21-483, adopted December 17, 2021, and released December 17, 2021. The full text of this document will be available for public inspection and copying via ECFS. The full text of this document can also be downloaded in Word or Portable Document Format (PDF) at http://www.fcc.gov/ndbedp. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4).

The Notice of Proposed Rulemaking component of this document solicits comment on the proposed allotment of Channel 263A at Hamilton, Texas, because it could result in a second local service to that community as proposed by B Plus Broadcasting, LLC. A staff engineering analysis reveals that Channel 263A can be allotted to Hamilton in conformity with the FCC's rules at reference coordinates 31-39-48.1 NL and 98-21-29.4 WL.

The Order to Show Cause requires S Content to show why the license of KNUZ(FM), San Saba, Texas, should not be modified to specify operation on Channel 291A in lieu of Channel 224A at San Saba to accommodate the new FM station on Channel 263A at Hamilton and the substitution of Channel 224A in lieu of Channel 263A for KRNR(FM), Goldthwaite, Texas.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

Federal Communications Commission.
Thomas Horan,
Chief of Staff, Media Bureau.

Proposed Rules

For the reasons discussed in the preamble, the Federal Communications Commission proposes to amend 47 CFR part 73 as follows:

PART 73—RADIO BROADCAST SERVICES

1. The authority citation for part 73 continues to read as follows:

Authority: 47 U.S.C. 154, 155, 301, 303, 307, 309, 310, 334, 336 and 339.

2. In § 73.202(b), amend the Table of FM Allotments under Texas, by adding in alphabetical order an entry for “Hamilton” to read as follows:

§ 73.202 Table of Allotments.

* * * * *

(b) Table of FM Allotments.

Table 1 to Paragraph (b)
U.S. States | Channel No.
Texas
* * * * *
Hamilton | 263A
* * * * *

* * * * *

[FR Doc. 2022-00826 Filed 1-21-22; 8:45 am]

BILLING CODE 6712-01-P